DEPARTMENT OF THE INTERIOR

Central Utah Project Completion Act

AGENCIES: Department of the Interior, Office of the Assistant Secretary—Water and Science (Interior); Utah Reclamation Mitigation and Conservation Commission (Mitigation Commission); and Central Utah Water Conservancy District (CUWCD).

ACTION: Notice of Availability of the Record of Decision on the Utah Lake Drainage Basin Water Delivery System Final Environmental Impact Statement documenting the Department of the Interior's approval to proceed with the construction of the Proposed Action Alternative.

SUMMARY: On December 22, 2004, R. Thomas Weimer, Acting Assistant Secretary—Water and Science, Department of the Interior, signed the Record of Decision (ROD) which documents the selection of the Proposed Action Alternative as presented in the Utah Lake Drainage Basin Water Delivery System (Utah Lake System) Final Environmental Impact Statement (ULS FEIS), INT FES 04-41, filed September 30, 2004. The ROD also approves the initiation of construction of the Utah Lake System, in accordance with statutory and contractual obligations. The following features will be constructed as part of the Proposed Action: (1) Sixth Water Hydropower Plant, Substation, and Transmission Facilities, (2) Upper Diamond Fork Hydropower Plant and Underground Transmission Facilities, (3) Spanish Fork Canyon Pipeline, (4) Spanish Fork—Santaquin Pipeline, (5) Santaquin—Mona Reservoir Pipeline, (6) Mapleton—Springville Lateral Pipeline, and (7) Spanish Fork—Provo Reservoir Canal Pipeline. The ROD acknowledged that value engineering studies would be conducted that could result in minor modifications to the physical facilities to further reduce environmental impacts and reduce construction costs.

The Proposed Action specifically fulfills project needs to: (1) Complete the Bonneville Unit by delivering 101,900 acre-feet on an average annual basis from Strawberry Reservoir to the Wasatch Front Area and project water from other sources to meet some of the municipal and industrial (M&I) demand in the Wasatch Front Area; (2) implement water conservation measures; (3) address all remaining environmental commitments associated with the Bonneville Unit; and (4) maximize current and future M&I water supplies associated with the Bonneville Unit.

Interior, the Mitigation Commission, and CUWCD serve as the Joint Lead Agencies for the ULS. During preparation of the ULS FEIS, the Joint Lead Agencies formally consulted with the U.S. Fish and Wildlife Service under Section 7 of the Endangered Species Act (16 U.S.C.A. sections 1531 to 1544, as amended). The Joint-Lead Agencies will also obtain an exemption from Section 404 requirements provided by Section 404(r) of the Clean Water Act by including a Section 404(b)(1) analysis within the ULS FEIS.

In addition to this notification, notices will be published in local newspapers.

FOR FURTHER INFORMATION CONTACT: Additional information on matters related to this notice can be obtained from Mr. Reed Murray at (801) 379-1237, or rmurray@uc.usbr.gov.

Dated: January 7, 2005.
Ronald Johnston,
Program Director, Department of the Interior.

[FR Doc. 05-785 Filed 1-13-05; 8:45 am]

BILLING CODE 4310-RK-P